DEPARTMENT OF TRANSPORTATION

Federal Aviation Administration

14 CFR Part 39

[Docket No. FAA-2015-2906; Directorate Identifier 2014-SW-068-AD; Amendment 39-18213; AD 2015-15-04]

RIN 2120-AA64

Airworthiness Directives; Bell Helicopter Textron, Inc.

AGENCY: Federal Aviation Administration (FAA), DOT.

ACTION: Final rule; request for comments.

SUMMARY: We are adopting a new airworthiness directive (AD) for certain Bell Helicopter Textron, Inc. (Bell), Model 204B, 205A, 205A-1, and 212 helicopters. This AD requires removing a certain part-numbered main rotor (M/R) blade grip (grip) from service. This AD is prompted by an error in a parts manufacturer approval (PMA) that incorrectly allows installation of the grips on the Bell Model 212. The actions specified in this AD are intended to prevent grip failure, separation of the M/R blade, and subsequent loss of control of the helicopter.

DATES: This AD becomes effective August 7, 2015. We must receive comments on this AD by September 21, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the economic evaluation, any comments received, and other information. The street address for the Docket Operations Office (telephone 800-647-5527) is in the ADDRESSES section. Comments will be available in the AD docket shortly after receipt.

For Timken service information identified in this AD, contact Timken Alcor Aerospace Technologies, Inc., Aftermarket Customer Service, 3110 N. Oakland, Mesa, AZ 85215; telephone 1-480-606-3130; email timkenaftermarketsales@timken.com; or at http://www.timken.com/en-us/solutions/aerospace/aftermarket/Pages/default.aspx. You may review the referenced service information at the FAA, Office of the Regional Counsel, Southwest Region, 10101 Hillwood Pkwy, Room 6N-321, Fort Worth, TX 76177.

FOR FURTHER INFORMATION CONTACT: Scott Franke, Aviation Safety Engineer, Fort Worth Aircraft Certification Office, Rotorcraft Directorate, FAA, 10101 Hillwood Pkwy, Fort Worth, TX 76177; telephone (817) 222-5170; email scott.franke@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

We are adopting a new AD for Bell Model 204B, 205A, 205A-1, and 212 helicopters with a grip part number (P/N) ASI-4011-121-113 installed. This AD requires removing any grip from service if the grip is currently or has ever been installed on a Bell Model 212 helicopter, or if it is unknown whether the grip has ever been installed on a Model 212 helicopter. This AD also prohibits installing grip P/N ASI-4011-121-113 on any helicopter if the grip has ever been installed on a Bell Model 212 helicopter. This AD is prompted by an error in the PMA that allows installing the subject grip on the Bell Model 212.

Grip P/N ASI-4011-121-113 is currently produced by Timken Alcor Aerospace Technologies, Inc., under a PMA as a replacement grip for Bell P/N 204-011-121-113. This approval incorrectly listed grip P/N ASI-4011-121-113 as eligible for installation on Bell Model 212 helicopters. The PMA has been revised to remove that eligibility. This grip was previously produced and sold as a replacement grip for Bell P/N 204-011-121-113 by Air Services International of Scottsdale, AZ, as P/N ASI-4011-121-113. The actions required in this AD are intended to prevent installation of an unapproved grip, which could result in grip failure, separation of the M/R blade, and subsequent loss of control of the helicopter.

FAA's Determination

We are issuing this AD because we evaluated all known relevant information and determined that the unsafe condition described previously is likely to exist in other products of these same type designs.

Related Service Information

We reviewed Timken T-700 Service Bulletin, Revision B, dated October 20, 2014. The service bulletin specifies the airworthiness life limitations and inspection interval schedule for various Timken Alcor Aerospace Technologies, Inc., replacement parts and articles.

AD Requirements

This AD requires, within 5 hours time-in-service (TIS), removing any grip P/N ASI-4011-121-113 from service if the grip is currently or has ever been installed on a Bell Model 212 helicopter. This AD also prohibits installing a grip P/N ASI-4011-121-113 on any helicopter if the grip is currently or has ever been installed on a Bell Model 212 helicopter.

Differences Between This AD and the Service Information

The Timken service bulletin provides the airworthiness limitations and inspection intervals for various life limited parts, including grip P/N ASI-4011-121-113. This AD only applies to helicopters with grip P/N ASI-4011-121-113 and requires removing the grip from service if it is currently or has ever been installed on a Bell Model 212 helicopter.

Costs of Compliance

We estimate that this AD could affect 130 helicopters of U.S. Registry. We estimate that operators may incur the following costs in order to comply with this AD. It takes about 20 work-hours to replace two M/R grips per helicopter. We estimate an average labor rate of $85 per work-hour, and a required parts cost of approximately $56,385 for two grips. Based on these figures, we estimate a total cost of $58,085 per helicopter and $7,551,050 for the U.S. fleet.

FAA's Justification and Determination of the Effective Date

Providing an opportunity for public comments prior to adopting these AD requirements would delay implementing the safety actions needed to correct this known unsafe condition. Therefore, we find that the risk to the flying public justifies waiving notice and comment prior to the adoption of this rule because the unsafe condition can adversely affect control of the helicopter and the required corrective actions must be accomplished within 5 hours TIS.

Since an unsafe condition exists that requires the immediate adoption of this AD, we determined that notice and opportunity for public comment before issuing this AD are impracticable and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD would not have federalism implications under Executive Order 13132. This AD would not have a substantial direct effect on the States, on the relationship between the national Government and the States, or on the distribution of power and responsibilities among the various levels of government.

For the reasons discussed, I certify that this AD:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-15-04 Bell Helicopter Textron, Inc. (Bell): Amendment 39-18213; Docket No. FAA-2015-2906; Directorate Identifier 2014-SW-068-AD.

(a) Applicability

This AD applies to the following helicopters, certificated in any category:

(1) Bell Model 204B, 205A, and 205A-1 helicopters, with a main rotor (M/R) blade grip (grip) part number (P/N) ASI-4011-121-113 installed, if the grip was ever installed on a Model 212 helicopter or if it is unknown whether a grip was ever installed on a Model 212 helicopter; and

(2) Bell Model 212 helicopters, with a grip P/N ASI-4011-121-113 installed.

(b) Unsafe Condition

This AD defines the unsafe condition as installation of a grip that does not meet type design. This condition could result in grip failure, separation of the M/R blade, and subsequent loss of control of the helicopter.

(c) Effective Date

This AD becomes effective August 7, 2015.

(d) Compliance

You are responsible for performing each action required by this AD within the specified compliance time unless it has already been accomplished prior to that time.

(e) Required Actions

(1) Within 5 hours time-in-service, remove each grip from service.

(2) Do not install a grip listed in paragraph (a) of this AD on any helicopter.

(f) Alternative Methods of Compliance (AMOC)

(1) The Manager, Fort Worth Aircraft Certification Office, FAA, may approve AMOCs for this AD. Send your proposal to: Scott Franke, Aviation Safety Engineer, Fort Worth Aircraft Certification Office, Rotorcraft Directorate, FAA, 10101 Hillwood Pkwy, Fort Worth, TX 76177; telephone (817) 222-5170; email scott.franke@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

Timken T-700 Service Bulletin, Revision B, dated October 20, 2014, which is not incorporated by reference, contains additional information about the subject of this AD. For Timken service information identified in this AD, contact Timken Alcor Aerospace Technologies, Inc., Aftermarket Customer Service, 3110 N. Oakland, Mesa, AZ 85215; telephone 1-480-606-3130; email timkenaftermarketsales@timken.com; or at http://www.timken.com/en-us/solutions/aerospace/aftermarket/Pages/default.aspx. You may review a copy of this service information at the FAA, Office of the Regional Counsel, Southwest Region, 10101 Hillwood Pkwy, Room 6N-321, Fort Worth, TX 76177.

(h) Subject

Joint Aircraft Service Component (JASC) Code: 6620, Main Rotor Blade Grip.

Issued in Fort Worth, Texas, on July 13, 2015.
Bruce E. Cain,
Acting Directorate Manager, Rotorcraft Directorate, Aircraft Certification Service.

[FR Doc. 2015-17953 Filed 7-22-15; 8:45 am]

BILLING CODE 4910-13-P